FEDERAL RESERVE SYSTEM

Change in Bank Control Notices; Acquisition of Shares of Bank or Bank Holding Companies; Correction

This notice corrects a notice (FR Doc. E5-5964) published on page 61976 of the issue for Thursday, October 27, 2005.

Under the Federal Reserve Bank of Kansas City heading, the entry for Garth Lee Gibson and Cynthia Annette Gibson, both of Montrose, Colorado, is revised to read as follows:

A. Federal Reserve Bank of Kansas City (Donna J. Ward, Assistant Vice President) 925 Grand Avenue, Kansas City, Missouri 64198-0001:

1. Garth Lee Gibson and Cynthia Annette Gibson, both of Montrose, Colorado; to acquire voting shares of First Mountain Company, Montrose, Colorado, and thereby indirectly acquire voting shares of MontroseBank, Montrose, Colorado.

Comments on this application must be received by November 14, 2005.

Board of Governors of the Federal Reserve System, October 31, 2005.
Robert deV. Frierson,
Deputy Secretary of the Board.

[FR Doc. E5-6104 Filed 11-3-05; 8:45 am]

BILLING CODE 6210-01-S